DEPARTMENT OF TRANSPORTATION

Surface Transportation Board

[Docket No. AB 290 (Sub-No. 359X)]

Norfolk Southern Railway Company—Discontinuance of Service Exemption—in Isle of Wight, Southampton, Greensville, and Brunswick Counties, VA.

On November 26, 2013, Norfolk Southern Railway Company (NSR) filed with the Surface Transportation Board (Board) a petition under 49 U.S.C. 10502 for exemption from the provisions of 49 U.S.C. 10903 to discontinue service over approximately 53.2 miles of rail line, extending from milepost FD 37.0 near Franklin to the end of the line at milepost FD 90.2 at Edgerton, in Isle of Wight, Southampton (including the independent City of Franklin), Greensville (including the independent City of Emporia), and Brunswick Counties, Va. (the Line). The Line traverses United States Postal Service Zip Codes 23829, 23837, 23844, 23847, 23851, 23856, and 23868, and includes the stations of Lawrenceville, Edgerton, Kingsberry, Emporia, Green Plain, Drewryville, Capron, and Courtland. According to the petition, the Line is stub-ended and therefore not capable of handling overhead traffic.

NSR states that, based on information in its possession, the Line does not contain federally granted rights-of-way. Any documentation in NSR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by March 14, 2014.

Because this is a discontinuance proceeding and not an abandonment proceeding, interim trail use/rail banking and public use conditions are not appropriate. Similarly, no environmental or historic documentation is required under 49 CFR 1105.6(c)(2) and 1105.8(b).

Any offer of financial assistance under 49 CFR 1152.27(b)(2) to subsidize continued rail service will be due no later than March 24, 2014, or 10 days after service of a decision granting the petition for exemption, whichever occurs sooner. Each offer must be accompanied by a $1,600 filing fee. See 49 CFR 1002.2(f)(25).

All filings in response to this notice must refer to Docket No. AB 290 (Sub-No. 359X) and must be sent to: (1) Surface Transportation Board, 395 E Street, SW., Washington, DC 20423-0001; and (2) Robert A. Wimbish, Baker & Miller PLLC, 2401 Pennsylvania Avenue NW., Suite 300, Washington, DC 20037. Replies to the petition are due on or before January 6, 2014.

Persons seeking further information concerning discontinuance procedures may contact the Board's Office of Public Assistance, Governmental Affairs, and Compliance at (202) 245-0238 or refer to the full abandonment and discontinuance regulations at 49 C.F.R. pt. 1152. Questions concerning environmental issues may be directed to the Board's Office of Environmental Analysis (OEA) at (202) 245-0305. [Assistance for the hearing impaired is available through Federal Information Relay Service (FIRS) at 1-800-877-8339.]

Board decisions and notices are available on our Web site at “WWW.STB.DOT.GOV.”

Decided: December 10, 2013.
By the Board, Rachel D. Campbell, Director, Office of Proceedings.
Derrick A. Gardner,
Clearance Clerk.

[FR Doc. 2013-29781 Filed 12-13-13; 8:45 am]

BILLING CODE 4915-01-P